ENVIRONMENTAL PROTECTION AGENCY

40 CFR Part 131

[EPA-HQ-OW-2007-93; FRL-8740-3]

Removing the Federal Antidegradation Policy Applicable to Waters of the United States Within the Commonwealth of Pennsylvania

AGENCY: Environmental Protection Agency (EPA).

ACTION: Re-opening of the public comment period for the proposed rule.

SUMMARY: EPA is re-opening the comment period of a proposed rule that the Agency published on September 15, 2008. The proposed rule solicited public comment on the Agency's proposal to remove from the Code of Federal Regulations a rule that EPA promulgated in 1996 making provisions of the federal antidegradation policy directly applicable for all waters of the United States within the Commonwealth of Pennsylvania. EPA is re-opening the comment period for the proposed rule to ensure all parties have adequate opportunity to express their views to the Agency prior to taking final action on the proposed rule. The original comment period for the proposed rule closed on October 15, 2008. In a separate action published in today's final rule section of the Federal Register, EPA is withdrawing a direct final rule that EPA also published on September 15, 2008, removing the federal regulation that made provisions of EPA's antidegradation policy directly applicable to waters in Pennsylvania.

DATES: The comment period for the proposed rule published at 73 FR 53178, on September 15, 2008 is now re-opened and will close on December 15, 2008.

ADDRESSES: EPA has established a docket for this action under Docket ID No. EPA-HQ-OW-2007-0093. All documents in the docket are listed on the http://www.regulations.gov Web site. Although listed on the Web site, some information is not publicly available, e.g., CBI or other information whose disclosure is restricted by statute. Certain other material, such as copyrighted material, is not placed on the Internet and will be publicly available only in hard copy form. Publicly available docket materials are available either electronically through http://www.regulations.gov or in hard copy at the OW docket Center. This docket Facility is open from 8:30 a.m. until 4:30 p.m., Monday through Friday, excluding legal holidays. The Docket telephone number is (202) 566-2426, and the Docket address is OW Docket, EPA West, Room 3334, and 1301 Constitution Avenue, NW., Washington, DC 20004. The Public Reading Room is open from 8:30 a.m. to 4:30 p.m., Monday through Friday, excluding legal holidays. The telephone number for the Public Reading Room is (202) 566-1744.

FOR FURTHER INFORMATION CONTACT: Caroline Whitehead at U.S. EPA Headquarters, Office of Water (4305T), 1200 Pennsylvania Ave, NW., Washington, DC 20460 (telephone: 202-566-2907, fax: 202-566-0409 or e-mail: whitehead.caroline@epa.gov) or Denise Hakowski at U.S. EPA Region 3, (3WP30) 1650 Arch Street, Philadelphia, Pennsylvania 19103 (telephone: 215-814-5726, fax: 215-814-2318 or e-mail: hakowski.denise@epa.gov).

SUPPLEMENTARY INFORMATION:

I. Potentially Affected Entities

Citizens concerned with water quality in Pennsylvania may be interested in this rulemaking. Entities discharging pollutants to the surface waters of Pennsylvania could be indirectly affected by this rulemaking since water quality standards are used in determining National Pollutant Discharge Elimination System (NPDES) permit limits.

Categories and entities which may ultimately be affected include:

Category | Examples of potentially affected entities
Industry | Industries discharging pollutants to surface waters in Pennsylvania.
Municipalities | Publicly-owned treatment works discharging pollutants to surface waters in Pennsylvania.

This table is not intended to be exhaustive, but rather provides a guide for readers regarding NPDES-regulated entities likely to be affected by this action. This table lists the types of entities that EPA is now aware could potentially be affected by this action.

II. Today's Action

As EPA explained in its September 15, 2008 notices (73 FR 53140 and 73 FR 53178), EPA proposed to remove the federal regulation that made provisions of the federal antidegradation policy directly applicable in Pennsylvania. EPA proposed to remove the federal rule because Pennsylvania now has an EPA-approved antidegradation policy meeting the federal requirements at 40 CFR 131.12. Therefore, the federal antidegradation regulation promulgated by EPA for Pennsylvania is no longer needed. On September 15, EPA published a direct final rule to remove the federal regulation at 40 CFR 131.32. EPA has determined that additional opportunity for public comment would be beneficial. Therefore, EPA is re-opening the comment period of the proposed rule (73 FR 53178; September 15, 2008) to ensure all parties have adequate opportunity to express their views to the Agency prior to EPA taking final action regarding removal of the federal regulation at 40 CFR 131.32. In a separate action today, EPA is withdrawing the direct final rule (73 FR 53140; September 15, 2008).

List of Subjects in 40 CFR Part 131

Environmental protection, Antidegradation, Water quality standards.

Dated: November 6, 2008.
Stephen L. Johnson,
Administrator.

[FR Doc. E8-27209 Filed 11-13-08; 8:45 am]

BILLING CODE 6560-50-P